DEPARTMENT OF HEALTH AND HUMAN SERVICES

Administration for Children and Families

Submission for OMB Review; Comment Request

Title: Child Support Noncustodial Parent Employment Demonstration (CSPED)

OMB No.: 0970-439.

Description: The Office of Child Support Enforcement (OCSE) within the Administration for Child and Families at the U.S. Department of Health and Human Services seeks an extension without change for an existing data collection called the Child Support Noncustodial Parent Employment Demonstration (CSPED) through September 30, 2018 (OMB no. 0970-439; expiration date September 30, 2016). Under CSPED, OCSE has issued grants to eight state child support agencies to provide employment, parenting, and child support services to parents who are having difficulty meeting their child support obligations. The overall objective of the CSPED evaluation is to document and evaluate the effectiveness of the approaches taken by these eight CSPED grantees. This evaluation will yield information about effective strategies for improving child support payments by providing non-custodial parents employment and other services through child support programs. It will generate extensive information on how these programs operated, what they cost, the effects the programs had, and whether the benefits of the programs exceed their costs. The information gathered will be critical to informing decisions related to future investments in child support-led employment-focused programs for non-custodial parents who have difficulty meeting their child support obligations.

The CSPED evaluation consists of the following two interconnected components or “studies”:

1. Implementation and Cost Study. The goal of the implementation and cost study is to provide a detailed description of the programs—how they are implemented, their participants, the contexts in which they are operated, their promising practices, and their costs. The detailed descriptions will assist in interpreting program impacts, identifying program features and conditions necessary for effective program replication or improvement, and carefully documenting the costs of delivering these services. Key data collection activities of the implementation and cost study include: (1) Conducting semi-structured interviews with program staff and selected community partner organizations to gather information on program implementation and costs; (2) conducting focus groups with program participants to elicit participation experiences; (3) administering a web-based survey to program staff and community partners to capture broader staff program experiences; and (4) collecting data on study participant service use, dosage, and duration of enrollment throughout the demonstration using a web-based Management Information System (MIS). Two of these collection activities will be completed before the requested extension period begins. They include the focus groups and the web-based survey of program staff and community partners.

2. Impact Study. The goal of the impact study is to provide rigorous estimates of the effectiveness of the eight programs using an experimental research design. Program applicants who are eligible for CSPED services are randomly assigned to either a program group that is offered program services or a control group. The study MIS that documents service use for the implementation study is also being used by grantee staff to conduct random assignment for the impact study. The impact study relies on data from surveys of participants, as well as administrative records from state and county data systems. Survey data are collected twice from program applicants. Baseline information is collected from all noncustodial parents who apply for the program prior to random assignment. A follow-up survey is collected from sample members twelve months after random assignment. A wide range of measures are collected through surveys, including measures of employment stability and quality, barriers to employment, parenting and co-parenting, and demographic and socio-economic characteristics. In addition, data on child support obligations and payments, Temporary Assistance for Needy Families (TANF) and Supplemental Nutrition Assistance Program (SNAP) benefits, Medicaid receipt, involvement with the criminal justice system, and earnings and benefit data collected through the Unemployment Insurance (UI) system are obtained from state and county databases.

Respondents: Respondents to these activities include study participants, grantee staff and community partners, as well as state and county staff responsible for extracting data from government databases for the evaluation. Specific respondents per instrument are noted in the burden table below.

Annual Burden Estimates

The following table provides the burden estimates for the implementation and cost study and the impact study components of the current request. The requested extension period is estimated to be two years and three months, from July 1, 2016 to September 30, 2018. Thus, burden hours for all components are annualized over two years and three months.

Implementation and Cost Study
Instrument | Total number of respondents remaining | Number of responses per respondent remaining | Average burden hours per response remaining | Estimated total burden hours remaining | Total annual burden hours remaining
Staff interview topic guide with program staff and community partners | 120 | 1 | 1 | 120 | 53
Study MIS for grantee and partner staff to track program participation | 200 | 468.75 | 0.0333 | 3,125 | 1,390

Impact Study
Instrument | Total number of respondents remaining | Number of responses per respondent remaining | Average burden hours per response remaining | Estimated total burden hours remaining | Total annual burden hours remaining
Introductory Script for Program Staff | 120 | 9 | .1667 | 180 | 80
Introductory Script for Program Participants | 1,050 | 1 | .1667 | 175 | 78
Baseline Survey | 1,000 | 1 | .5833 | 583 | 259
Study MIS to Conduct Random Assignment | 120 | 9 | .1667 | 180 | 80
Protocol for collecting administrative records | 32 | 1 | 8 | 256 | 114
12-month follow-up survey | 1,476 | 1 | 0.75 | 1,107 | 492

Estimated Total Annual Burden Hours: 2,546.

Additional Information: Copies of the proposed collection may be obtained by writing to the Administration for Children and Families, Office of Planning, Research, and Evaluation, 330 C Street SW., Washington DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRASUBSMISSION@OMB.EoP.GIV, Attn: Desk Officer for the Administration of Children and Families.

Robert Sargis,
Reports Clearance Officer.

[FR Doc. 2016-08979 Filed 4-18-16; 8:45 am]

BILLING CODE 4184-01-P